NATIONAL TRANSPORTATION SAFETY BOARD

Sunshine Act Meeting

Agenda

Time and Date: 9:30 a.m., Tuesday, November 29, 2005.

Place: NTSB Board Room, 429 L'Enfant Plaza, SW., Washington DC 20594.

Status: The two items are open to the public

Matters to be Considered:

7710A Railroad Accident Report—Collision of Norfolk Southern Freight Train 192 with Standing Norfolk Southern Local Train P22 with Subsequent Hazardous Materials Release at Graniteville, South Carolina, January 6, 2005.

7505A Safety Study—Supervisory Control and Data Acquisition (SCADA) in Liquid Pipelines

News Media Contact: Telephone: (202) 314-6100.

Individuals requesting specific accommodations should contact Christopher Bisett (202) 314-6305 by Friday, November 25, 2005.

The public may view the meeting via a live or archived webcast by accessing a link under “News & Events” on the NTSB home page at http://www.ntsb.gov.

FOR FURTHER INFORMATION CONTACT: Vicky D'Onofrio, (202) 314—6410.

Dated: November 15, 2005.
Vicky D'Onofrio,
Federal Register Liaison Officer.

[FR Doc. 05-23212 Filed 11-18-05; 2:37 pm]

BILLING CODE 7533—01—M